DEPARTMENT OF TRANSPORTATION

Surface Transportation Board

[STB Finance Docket No. 34293]

Metro-North Commuter Railroad Company-Acquisition and Operation Exemption-Line of Norfolk Southern Railway Company and Pennsylvania Lines LLC

Metro-North Commuter Railroad Company (Metro-North),¹ a noncarrier, has filed a notice of exemption under 49 CFR 1150.31 to acquire through a sublease from Norfolk Southern Railway Company (NSR) and operate a rail line owned by Pennsylvania Lines LLC (PRR) and leased and operated by NSR: (1) Between approximately milepost JS-31.3 at Suffern, NY, and approximately milepost JS-76.6 at CP-Howells, NY; and (2) between approximately milepost SR-68.7 (equals JS-76.6) at CP-Howells, NY, and approximately milepost SR-89.9 at Port Jervis, NY.² The total distance of the line is approximately 66.5 miles and it traverses Orange and Rockland Counties, NY.³

¹ Metro-North, a subsidiary of Metropolitan Transportation Authority, provides mass transportation for commuters in the States of New York and Connecticut. It has been providing passenger service over the line since 1983 pursuant to a trackage rights agreement. That agreement will be replaced by a new sublease and operations agreement, pursuant to which Metro-North will continue to conduct passenger operations and NSR will continue to conduct freight operations on the line.

² The line is a continuous line of railroad between Suffern and Port Jervis, that is sometimes referred to as the Port Jervis Line.

³ On March 5, 2003, Metro-North filed a motion to dismiss its notice of exemption in this case to obtain a jurisdictional determination regarding its prospective common carrier status with respect to the line. That motion will be addressed in a subsequent decision.

The transaction was scheduled to be consummated on February 28, 2003.

If the notice contains false or misleading information, the exemption is void ab initio. Petitions to reopen the proceeding to revoke the exemption under 49 U.S.C. 10502(d) may be filed at any time. The filing of a petition to revoke will not automatically stay the transaction.

An original and 10 copies of all pleadings, referring to STB Finance Docket No. 34293, must be filed with the Surface Transportation Board, 1925 K Street, NW., Washington, DC 20423-0001. In addition, a copy of each pleading must be served on Kevin M. Sheys, Esq., Kirkpatrick & Lockhart LLP, 1800 Massachusetts Ave., NW., 2nd Floor, Washington, DC 20036-1800.

Board decisions and notices are available on our website at “http://www.stb.dot.gov.”

Decided: March 11, 2003.
By the Board, David M. Konschnik, Director, Office of Proceedings.
Vernon A. Williams,
Secretary.

[FR Doc. 03-7679 Filed 3-28-03; 8:45 am]

BILLING CODE 4915-00-P